ENVIRONMENTAL PROTECTION AGENCY

40 CFR Parts 51, 52, 261, 262, 264, 265, and 270

[FRL-8961-2]

RIN 2090-AA28

New Jersey Gold Track Program Under Project XL

AGENCY: Environmental Protection Agency (EPA).

ACTION: Proposed rule: withdrawal.

SUMMARY: The Environmental Protection Agency (EPA) is withdrawing a proposed rule published on April 16, 2002, which would have modified the regulations under the Resource Conservation and Recovery Act (RCRA) and the Clean Air Act (CAA) to enable the implementation of the New Jersey Department of Environmental Protection (NJDEP) Gold Track Program that was developed under EPA's Project eXcellence in Leadership (Project XL) program. Project XL was a national pilot program that allowed state and local governments, businesses and federal facilities to develop with EPA more cost-effective ways of achieving environmental and public health protection. In exchange, EPA provided regulatory, policy or procedural flexibilities to conduct the pilot experiments. EPA is withdrawing the proposed rule in response to NJDEP's decision not to go forward with the Gold Track Program and not to promulgate an enabling rule. In the rule, EPA proposed to provide New Jersey with authority to provide high-performing companies in New Jersey with the regulatory flexibility to test environmental management strategies designed to produce improved and measurable results. The NJDEP had expressed interest in testing a program designed to achieve environmental excellence through commitments and accountability beyond standard regulatory requirements. Following EPA's April 16, 2002 proposal, the NJDEP communicated to EPA that it did not wish to implement the state rulemaking or the pilot project as originally envisioned. EPA received no public comments on this proposed rule.

DATES: The proposed rule published on April 16, 2002 at 67 FR 18528 is withdrawn as of September 24, 2009.

FOR FURTHER INFORMATION CONTACT: Gerald Filbin, Mail Code 1807T, U.S. Environmental Protection Agency, Office of Policy, Economics and Innovation, 1200 Pennsylvania Avenue, NW., Washington, DC 20460. Dr. Filbin's telephone number is (202) 566-2182 and his e-mail address is filbin.gerald@epa.gov. Further information on today's action may also be obtained on the internet at http://www.epa.gov/projectxl/njgold/index.htm.

SUPPLEMENTARY INFORMATION: Regulatory Impact: Because this action withdraws a notice of proposed rulemaking, it is neither a proposed nor a final rule and therefore is not covered under Executive Order 12866, the Regulatory Flexibility Act, or other Executive Orders and statutes that generally apply to those rulemakings.

The proposed rule, “New Jersey Gold Track Program Under Project XL,” published on April 16, 2002 at 67 FR 18528 is withdrawn as of September 24, 2009.

Dated: September 16, 2009.
Scott Fulton,
Acting Deputy Administrator.

[FR Doc. E9-22924 Filed 9-23-09; 8:45 am]

BILLING CODE 6560-50-P